DEPARTMENT OF ENERGY

Federal Energy Regulatory Commission

[Docket No. EF00-2012-001, et al.]

U.S. Department of Energy, et al.; Electric Rate and Corporate Regulation Filings

July 13, 2001.

Take notice that the following filings have been made with the Commission:

1. U.S. Department of Energy Bonneville Power Administration

[Docket No. EF00-2012-001]

Take notice that on June 29, 2001, the Bonneville Power Administration (BPA) tendered for filing with the Federal Energy Regulatory Commission (Commission) proposed supplemental wholesale power rate adjustments pursuant to section 7(a)(2) of the Pacific Northwest Electric Power Planning and Conservation Act, 16 U.S.C. 839e(a)(2).

BPA seeks interim approval of its proposed rates effective October 1, 2001, pursuant to the Commission's regulation 300.20, 18 CFR 300.20. Pursuant to Commission's regulation 300.21, 18 CFR 300.21, BPA seeks interim approval and final confirmation of the proposed rates for the periods set forth in this notice.

BPA requests approval effective October 1, 2001, through September 30, 2006, for the following proposed wholesale power rates: PF-02 Priority Firm Power Rate, RL-02 Residential Load Firm Power Rate, NR-02 New Resource Firm Power Rate, IP-02 Industrial Firm Power Rate, including the IPTAC, and NF-02 Nonfirm Energy Rate. In addition, BPA requests approval of the adjusted General Rate Schedule Provisions (GRSPs) for the period October 1, 2001, through September 30, 2006. The GRSPs apply to the 2002 wholesale power rates. BPA requests approval of the methodology used to calculate the rate for the Slice product sold under the PF rate schedule for the period October 1, 2001, through September 30, 2011.

Comment date: August 3, 2001, in accordance with Standard Paragraph E at the end of this notice.

2. Jackson County Power, LLC

[Docket No. EG01-261-000]

Take notice that on July 11, 2001, Jackson County Power, LLC tendered for filing with the Federal Energy Regulatory Commission (Commission) an application for determination of exempt wholesale generator status pursuant to Part 365 of the Commission's regulations.

The applicant is a limited liability company organized under the laws of the State of Delaware that is engaged directly and exclusively in developing, owning, and operating a gas-fired 1,072 MW combined cycle power plant in Jackson County, Ohio, six miles south of Jackson, Ohio, which will be an eligible facility.

Comment date: August 5, 2001, in accordance with Standard Paragraph E at the end of this notice. The Commission will limit its consideration of comments to those that concern the adequacy or accuracy of the application.

3. PPL Large Scale Distributed Generation II, LLC

[Docket No. EG01-262-000]

Take notice that on July 12, 2001, PPL Large Scale Distributed Generation II, LLC (the Applicant), filed with the Federal Energy Regulatory Commission an application for determination of exempt wholesale generator status pursuant to Part 365 of the Commission's regulations.

The Applicant is a Delaware limited liability company that will lease one or more “eligible facilities”, as defined under PUHCA, including facilities to be located in Arizona, Pennsylvania and Illinois, which it will lease from Large Scale Distributed Generation II Statutory Trust.

Comment date: August 3, 2001, in accordance with Standard Paragraph E at the end of this notice. The Commission will limit its consideration of comments to those that concern the adequacy or accuracy of the application.

4. Large Scale Distributed Generation II Statutory Trust

[Docket No. EG01-263-000]

Take notice that on July 12, 2001, Large Scale Distributed Generation II Statutory Trust (the Applicant) filed with the Federal Energy Regulatory Commission (Commission) an application for determination of exempt wholesale generator status pursuant to Part 365 of the Commission's regulations.

The Applicant is a Connecticut statutory trust that will own one or more “eligible facilities”, as defined under PUHCA, including facilities to be located in Arizona, Pennsylvania and Illinois, which it will lease to PPL Large Scale Distributed Generation II, LLC.

Comment date: August 3, 2001, in accordance with Standard Paragraph E at the end of this notice. The Commission will limit its consideration of comments to those that concern the adequacy or accuracy of the application.

5. Cleco Power LLC

[Docket No. ER01-1099-005]

Take notice that Cleco Power LLC (Cleco Power), on July 10, 2001, tendered for filing a substitute original Rate Schedule 12. On June 23, 2001, Cleco Utility's Rate Schedule 15 was canceled and refiled as Cleco Power Rate Schedule 12. Appendix C was inadvertently omitted from Cleco Power's Rate Schedule 12; accordingly, Cleco Power filed a substitute original Rate Schedule 12 that includes Appendix C.

Comment date: July 31, 2001, in accordance with Standard Paragraph E at the end of this notice.

6. Michigan Electric Transmission Company

[Docket No. ER01-2126-001]

Take notice that on July 9, 2001, Michigan Electric Transmission Company tendered for filing an amendment to its original filing in this docket in response to a deficiency letter dated July 2, 2001.

Copies of the filing were served upon FERC Staff and those on the official service list in this proceeding.

Comment date: July 30, 2001, in accordance with Standard Paragraph E at the end of this notice.

7. Exelon Generation Company, LLC

[Docket No. ER01-2549-000]

Take notice that on July 10, 2001, Exelon Generation Company, LLC (Exelon Generation) submitted for filing with the Federal Energy Regulatory Commission (FERC or the Commission) a service agreement for wholesale power sales transactions between Exelon Generation and WPS Energy Services, Inc. under Exelon Generation's wholesale power sales tariff, FERC Electric Tariff, Original Volume No. 1.

Exelon Generation requests that the Service Agreement be accepted for filing effective as of April 1, 2001.

Comment date: July 31, 2001, in accordance with Standard Paragraph E at the end of this notice.

8. Deseret Generation and Transmission Co-operative, Inc.

[Docket No. ER01-2550-000]

Take notice that on July 10, 2001, Deseret Generation & Transmission Co-operative, Inc. (Deseret) tendered for filing an executed Confirmation Agreement for a firm power sale between Deseret and Utah Associated Municipal Power Systems (UAMPS). This Confirmation Agreement is filed pursuant to the Western Systems Power Pool Agreement regarding a long-term power purchase and sale transaction. Deseret requests an effective date of July 1, 2001.

Comment date: July 31, 2001, in accordance with Standard Paragraph E at the end of this notice.

9. Cincinnati Gas & Electric Company

[Docket No. ER01-2551-000]

Take notice that on July 10, 2001, Cincinnati Gas & Electric Company (CG&E) submitted an application for reclassification of its transmission and distribution facilities as required by the Ohio Public Utilities Commission. In accordance with the seven-factor test established by the Commission in Order No. 888, CG&E proposes to designate all of its directly-owned Ohio facilities operated at 69 kV and above as FERC-jurisdictional transmission facilities and to designate all of its remaining Ohio facilities as state-jurisdictional distribution facilities. The sole purpose of this application is to facilitate unbundled retail transmission in the state of Ohio. CG&E does not seek in this application to adjust its service rates.

Comment date: July 31, 2001, in accordance with Standard Paragraph E at the end of this notice.

10. Central Maine Power Company

[Docket No. ER01-2552-000]

Take notice that Central Maine Power Company (CMP), on July 10, 2001, tendered for filing pursuant to Section 205 of the Federal Power Act (FPA) of the Federal Energy Regulatory Commission (Commission or FERC), an Amendment to System Contract Entitlement Agreement (Amendment) between CMP and Engage Energy America LLC (Engage) and, in compliance with Order No. 614, FERC Stats. & Regs. 31,096 (2000), a First Revised System Contract Entitlement Agreement between CMP and Engage (First Revised Agreement), revised pursuant to the Amendment.

CMP respectfully requests that the Commission accept the Amendment and the First Revised Agreement effective as of June 26, 2001, without modification or condition, and grant waiver of any and all requirements, including the Commission's notice requirements for good cause, for both agreements to become effective. Copies of this filing have been served on Engage and the State of Maine Public Utilities Commission.

Comment date: July 31, 2001, in accordance with Standard Paragraph E at the end of this notice.

11. Lakefield Junction, L.P.

[Docket No. ER01-2553-000]

Take notice that on July 10, 2001, Lakefield Junction, L.P. tendered for filing under its market-based rate tariff a long-term service agreement with Great River Energy.

Comment date: July 31, 2001, in accordance with Standard Paragraph E at the end of this notice.

12. Northeast Utilities Service Company

[Docket No. ER01-2556-000]

Take notice that Northeast Utilities Service Company (NUSCO), on July 9, 2001, tendered for filing, Service Agreement to provide Firm Point-To-Point Transmission Service to Select Energy Inc. under the NU System Companies' Open Access Transmission Service Tariff No. 9. NUSCO states that a copy of this filing has been mailed to Select Energy Inc.

NUSCO requests that the Service Agreement become effective September 1, 2001.

Comment date: July 30, 2001, in accordance with Standard Paragraph E at the end of this notice.

13. Northeast Utilities Service Company

[Docket No. ER01-2557-000]

Take notice that on July 9, 2001, Northeast Utilities Service Company (NUSCO), on tendered for filing, Service Agreement to provide Non-Firm Point-To-Point Transmission Service to Select Energy Inc. under the NU System Companies' Open Access Transmission Service Tariff No. 9. NUSCO states that a copy of this filing has been mailed to Select Energy Inc.

NUSCO requests that the Service Agreement become effective September 1, 2001.

Comment date: July 30, 2001, in accordance with Standard Paragraph E at the end of this notice.

14. Golden Spread Electric Cooperative, Inc.

[Docket No. ER01-2558-000]

Take notice that on July 10, 2001, Golden Spread Electric Cooperative, Inc. (Golden Spread) tendered for filing with the Commission an Informational Filing to Rate Schedule No. 35. The Informational Filing updates the formulary fixed costs associated with replacement energy sales by Golden Spread to the customer, Southwestern Public Service Company (Southwestern). Golden Spread has also submitted the filing in an Order No. 614 compliant format. A copy of this filing has been served upon Southwestern.

Comment date: July 31, 2001, in accordance with Standard Paragraph E at the end of this notice.

15. ISO New England Inc.

[Docket No. ER01-2559-000]

Take notice that on July 10, 2001, ISO New England Inc., submitted as a Section 205 filing in the above Docket a new proposal for eliminating the external contract floor price, effective September 1, 2001.

Comment date: July 31, 2001, in accordance with Standard Paragraph E at the end of this notice.

16. Western Resources, Inc.

[Docket No. ER01-2570-000]

Take notice that on July 10, 2001, Western Resources, Inc. (Western Resources) tendered for filing a Service Agreement between Western Resources and the cities of Burlingame, Clay Center, Ellinwood, Herington, Holton, Larned, Minneapolis, Osage City, Sabetha, Stafford, Sterling and Wamego, Kansas (Cities). Western Resources states that the purpose of these agreements is to permit the Cities to take service under Western Resources' Market Based Power Sales Tariff on file with the Commission. This agreement is proposed to be effective June 15, 2001.

Copies of the filing were served upon the Kansas Corporation Commission and the Cities.

Comment date: July 31, 2001, in accordance with Standard Paragraph E at the end of this notice.

17. Duke Energy Corporation/Duke Energy Fossil-Hydro, LLC/Duke Energy Nuclear, LLC

[Docket No. EL01-101-000]

Take notice that on July 10, 2001, Duke Energy Corporation d/b/a Duke Power (Duke Power), Duke Energy Fossil-Hydro, LLC (Duke Fossil) and Duke Energy Nuclear, LLC (Duke Nuclear) filed a petition with the Commission for a declaratory order (i) disclaiming jurisdiction under Sections 201(e) and 205 of the Federal Power Act (FPA) over Duke Fossil and Duke Nuclear with respect to the day-to-day operation and maintenance services each will provide to Duke Power pursuant to operation and maintenance agreements related to generation facilities owned by Duke Power; (ii) disclaiming jurisdiction under Section 203 of the FPA over Duke Power's delegation to Duke Fossil and Duke Nuclear of day-to-day operation and maintenance responsibilities under the respective operation and maintenance agreements to the extent such activities may apply to FPA jurisdictional facilities under Part II of the FPA (FPA Jurisdictional Facilitates); and (iii) that Duke Fossil does not need to become a co-licensee on the hydro-electric licenses issued to Duke Power under Part I of the FPA with respect to the hydro-electric facilities owned or leased by Duke Power that Duke Fossil may operate and maintain under the operation and maintenance agreement.

Comment date: August 9, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18069 Filed 7-18-01; 8:45 am]

BILLING CODE 6717-01-P